SMALL BUSINESS ADMINISTRATION

[Declaration of Disaster #P068]

State of Tennessee

As a result of the President's major disaster declaration for Public Assistance on October 7, 2004, the U.S. Small Business Administration is activating its disaster loan program only for private non-profit organizations that provide essential services of a governmental nature. I find that Campbell, Carter, Clay, Cocke, Cumberland, Grundy, Hamilton, Jackson, Johnson, Meigs, Polk, Rhea, and Roane Counties in the State of Tennessee constitute a disaster area due to damages caused by severe storms and flooding occurring on September 16-20, 2004. Applications for loans for physical damage as a result of this disaster may be filed until the close of business on December 6, 2004 at the address listed below or other locally announced locations: Small Business Administration, Disaster Area 2 Office, One Baltimore Place, Suite 300, Atlanta, GA 30308.

The interest rates are:

| Percent
For Physical Damage:
Non-Profit Organizations Without Credit Available Elsewhere | 2.900
Non-Profit Organizations With Credit Available Elsewhere | 4.875

The number assigned to this disaster for physical damage is P06806.

(Catalog of Federal Domestic Assistance Program Nos. 59008).
Dated: October 13, 2004.
Cheri L. Cannon,
Acting Associate Administrator for Disaster Assistance.

[FR Doc. 04-23400 Filed 10-18-04; 8:45 am]

BILLING CODE 8025-01-P